ENVIRONMENTAL PROTECTION AGENCY

40 CFR Parts 261, 262, 266, and 372

[FRL-12583.1-02-OA]

Delay of Effective Date for 2 Final Regulations Published by the Environmental Protection Agency Between December 11, 2024, and January 6, 2025

AGENCY: Environmental Protection Agency (EPA).

ACTION: Final rule; delay of effective dates.

SUMMARY: In accordance with the memorandum of January 20, 2025, from President Donald J. Trump, entitled “Regulatory Freeze Pending Review,” this action temporarily delays until March 21, 2025, the effective date of the regulations listed in the table below. EPA has identified two additional regulations that meet the criteria in the memo and may identify additional regulations in subsequent notices.

DATES: As of February 5, 2025, the effective dates of the rules published at 89 FR 99727 (December 11, 2024), and 90 FR 573 (January 6, 2025), are delayed to March 21, 2025.

FOR FURTHER INFORMATION CONTACT: William Nickerson, Director, Office of Regulatory Policy and Management, Office of Policy, Mail code 1804, U.S. Environmental Protection Agency, 1200 Pennsylvania Ave NW, Washington, DC 20460; (202) 566-0326; nickerson.william@epa.gov.

SUPPLEMENTARY INFORMATION: EPA is taking this action in response to the memorandum of January 20, 2025, from the President, entitled “Regulatory Freeze Pending Review.” The memorandum directed the heads of Executive Departments and Agencies to consider postponing for sixty days from the date of the memorandum the effective date for any rules that have been published in the Federal Register but had not yet taken effect for the purpose of reviewing any questions of fact, law, and policy that the rules may raise. EPA issued a final rule on January 28, 2025, to delay the effective date of 4 regulations (90 FR 8254). EPA has determined there are an additional 2 regulations, shown in the table below, that meet the criteria for delaying the respective effective dates. The new effective date for these two regulations is March 21, 2025.

The EPA is taking this action, without opportunity for public comment and effective immediately, based on the good cause exceptions in 5 U.S.C. 553(b)(B) and 553(d)(3), in that seeking public comment is impracticable, unnecessary and contrary to the public interest. The temporary delay in effective dates until March 21, 2025, is necessary to give Agency officials the opportunity for further review and consideration of new regulations, consistent with the memorandum of the President dated January 20, 2025. Given the imminence of the effective dates of these regulations, seeking prior public comment on this temporary delay is impractical, as well as contrary to the public interest in the orderly promulgation and implementation of regulations. In addition, to the extent any regulation below is an interpretive rule, general statement of policy, or rule of agency organization, procedure, or practice, it is exempt from notice and comment under 5 U.S.C. 553(b)(A).

For the foregoing reasons, the good cause exception in 5 U.S.C. 553(d)(3) also applies to EPA's decision to make this action effectively immediately. Moreover, to the extent that extending the effective date of any of these rules would grant an exception or relieve a restriction, an exception also applies under 5 U.S.C. 553(d)(1).

Federal Register citation | Title | Publication date | Original effective date | New effective date
89 FR 99727 | Hazardous Waste Generator Improvements Rule, the Hazardous Waste Pharmaceuticals Rule, and the Definition of Solid Waste Rule; Technical Corrections | 12/11/2024 | 2/10/2025 | 3/21/2025
90 FR 573 | Implementing Statutory Addition of Certain Per- and Polyfluoroalkyl Substances (PFAS) to Toxics Release Inventory (TRI) Beginning With Reporting Year 2025 | 1/6/2025 | 2/5/2025 | 3/21/2025

Where appropriate, the Agency may consider further delaying the effective dates of the above-referenced regulations beyond March 21, 2025. If the Agency were to do so, consistent with the memorandum of the President, the Agency would consider whether to propose any later effective date for public comment.

Lee Zeldin,
Administrator.

[FR Doc. 2025-02289 Filed 2-4-25; 8:45 am]

BILLING CODE 6560-50-P